DEPARTMENT OF JUSTICE

Notice of Lodging of Proposed Consent Decree Under the Comprehensive Environmental Response, Compensation and Liability Act and the Resource Conservation Recovery Act

In accordance with Departmental Policy, 28 U.S.C. 50.7, notice is hereby given that on February 3, 2003, a proposed consent decree in United States v. Charles George Trucking Company, Inc., et. al., Civil Action No. 85-2463-WD, was lodged with the United States District Court for the District of Massachusetts.

In this action the United States sought cost recovery and natural resource damages under the Comprehensive Environmental Response, Compensation and Liability Act (“CERCLA”) and the Resource Conservation Recovery Act (“RCRA”) against Charles George, Sr., Dorothy George and the Charles George Land Reclamation Trust (collectively, the “settling defendants”) and other defendants (who have settled under prior agreements) with respect to the Charles George Land Reclamation Trust Superfund Site in Tynsborough, Massachusetts. Under the terms of the proposed settlement, the settling defendants will pay up to $3.8 million to reimburse the United States and the Commonwealth of Massachusetts for costs incurred at the Site. In addition, to resolve the governments' claims of natural resource damages at the Site, the settling defendants will impose a conservation restriction on approximately 15 acres of undeveloped land in Tynsborough, Massachusetts. This settlement is the third and final settlement entered into by the United States concerning response costs at this Site.

The Department of Justice will receive for a period of 30 days from the date of this publication comments relating to the proposed consent decree. Comments should be addressed to the Assistant Attorney General, Environment and Natural Resources Division, P.O. Box 7611, U.S. Department of Justice, Washington, D.C. 20044-7611, and should refer to United States v. Charles George Trucking Company, et. al., D.J. Ref. 90-11-3-91. Commenters may request an opportunity for a public meeting in the affected area, in accordance with section 7003(d) of RCRA, 42 U.S.C. 6973(d).

The Consent Decree may be examined at the Office of the United States Attorney, 1 Courthouse Way, Suite 9200, Boston, Massachusetts 02210, and at U.S. EPA Region I, One Congress Street—Suite 1100, Boston, Massachusetts 02114. A copy of the consent decree may also be obtained by mail from the Consent Decree Library, P.O. Box 7611, U.S. Department of Justice, Washington, DC 20044-7611, or by faxing a request to Tonia Fleetwood, fax no. (202) 514-0097, phone confirmation number (202) 514-1547. In requesting a copy, please enclose a check in the amount of $14.25 (25 cents per page reproduction cost) payable to the U.S. Treasury.

Ronald Gluck,
Assistant Chief, Environmental Enforcement Section, Environment and Natural Resources Division.

[FR Doc. 03-3522 Filed 2-12-03; 8:45 am]

BILLING CODE 4410-15-M